NUCLEAR REGULATORY COMMISSION

[Docket Nos. 72-1032, 72-78, 50-317 and 50-318; NRC-2020-0109]

Exelon Generation Company, LLC; Calvert Cliffs Nuclear Power Plant; Independent Spent Fuel Storage Installation

AGENCY: Nuclear Regulatory Commission.

ACTION: Environmental assessment and finding of no significant impact; issuance.

SUMMARY: The U.S. Nuclear Regulatory Commission (NRC) is considering an exemption request from Exelon Generation Company, LLC (EGC) to allow the Calvert Cliffs Nuclear Power Plant (CCNPP) to load spent fuel with a larger pellet diameter than is authorized in the Holtec International, Inc. (Holtec) HI-STORM FW storage system in Certificate of Compliance No. 1032, Amendment No. 1, Revision 1. The NRC prepared an environmental assessment (EA) documenting its finding. The NRC concluded that the proposed action would have no significant environmental impact. Accordingly, the NRC staff is issuing a finding of no significant impact (FONSI) associated with the proposed exemption.

DATES: The EA and FONSI referenced in this document became available on May 22, 2020.

ADDRESSES: Please refer to Docket ID NRC-2020-0109 when contacting the NRC about the availability of information regarding this document. You may obtain publicly-available information related to this document using any of the following methods:

• Federal Rulemaking Website: Go to https://www.regulations.gov/ and search for Docket ID NRC-2020-0109. Address questions about NRC docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

FOR FURTHER INFORMATION CONTACT: Chris Allen, Office of Nuclear Material Safety and Safeguards, U.S. Nuclear Regulatory Commission, Washington, DC 20555; telephone: 301-415-6877; email: William.Allen@nrc.gov.

SUPPLEMENTARY INFORMATION:

I. Introduction

The Calvert Cliffs Nuclear Power Plant has been storing PWR spent fuel in its specific licensed independent spent fuel storage installation (ISFSI) utilizing Special Nuclear Materials License No. SNM-2505, which was issued in November 1992. However, for the loading campaign commencing in early summer of 2021, CCNPP plans to store its PWR fuel at a separate on-site ISFSI using the HI-STORM FW storage system, Certificate of Compliance No. 1032, Amendment No. 1, Revision 1 (ADAMS Package Accession No. ML15152A358) under the general license provisions in part 72 of title 10 of the Code of Federal Regulations (10 CFR). The NRC is reviewing an exemption request from EGC dated October 3, 2019 (ADAMS Accession No. ML19276D398). EGC requested an exemption from the requirements of paragraph 72.212(b)(3) of title 10 of the Code of Federal Regulations (10 CFR), and the portion of 10 CFR 72.212(b)(11) that requires compliance with the terms, conditions, and specifications of the Certificate of Compliance No. 1032, for spent fuel storage at the Calvert Cliffs Nuclear Power Plant. In evaluating the request, the NRC is also considering, pursuant to authority in 10 CFR 72.7, exempting EGC from similar requirements in 10 CFR 72.212(a)(2), 10 CFR 72.212(b)(5)(i); and 10 CFR 72.214, “List of approved spent fuel storage casks.”

Specifically, EGC requested an exemption to load and store Class 14x14C spent fuel with a larger maximum pellet diameter than authorized in Amendment No. 1, Revision 1 of Holtec Certificate of Compliance No. 1032 for the HI-STORM FW storage system.

II. Environmental Assessment Summary

Under the requirements of 10 CFR 51.21 and 10 CFR 51.30(a), the NRC staff developed an environmental assessment (ADAMS Accession No. ML20114E231) to evaluate the proposed action, which is for the NRC to grant an exemption to EGC to allow loading and storage of spent fuel with a larger maximum pellet diameter than that authorized in Amendment No. 1, Revision 1 of the Holtec Certificate of Compliance No. 1032 for the HI-STORM FW storage system.

The EA defines the NRC's proposed action (i.e., to grant the exemption request per 10 CFR 72.7) and the purpose of and need for the proposed action. Evaluations of the potential environmental impacts of the proposed action and alternatives to the proposed action are presented, followed by the NRC's conclusion.

This EA evaluates the potential environmental impacts of granting the exemption to load and store spent fuel with a larger maximum pellet diameter than authorized in Certificate of Compliance No. 1032, Amendment No. 1, Revision 1 in the HI-STORM FW storage system at the Calvert Cliffs Nuclear Power Plant. The potential environmental impact of using NRC-approved storage casks was initially analyzed in the EA for the rulemaking to provide for the storage of spent fuel under a general license on July 18, 1990 (55 FR 29181). The environmental assessment for the HI-STORM FW storage system, Certificate of Compliance No. 1032, Amendment No. 1, Revision 1, (80 FR 14291) tiers off the environmental assessment for the 1990 final rule.

The NRC staff finds that the environmental effects from this exemption request is bounded by the EA for Certificate of Compliance No. 1032, Amendment No. 1, Revision 1, and that there will be no significant environmental impacts from the proposed action. The proposed action does not change the types or quantities of effluents that may be released offsite, and it does not increase occupational or public radiation exposure. The request by EGC to increase the pellet diameter without a corresponding increase in the uranium oxide loading of fuel assemblies will not result in an inadvertent criticality event. Therefore, there are no significant radiological environmental impacts associated with the proposed action. There is no change to the non-radiological effluents. The proposed action will take place within the site boundary and does not have other environmental impacts. Thus, the proposed action will not have a significant effect on the quality of the human environment. Therefore, the environmental impacts of the proposed action are no greater than those described in the EA for the rulemaking to add the HI-STORM FW storage system, Certificate of Compliance No. 1032, Amendment No. 1, Revision 1 to 10 CFR 72.214.

III. Finding of No Significant Impact

The NRC staff has prepared an EA and associated FONSI in support of the proposed action. The NRC staff has concluded that the proposed action, for the NRC to grant the exemption requested for Calvert Cliffs Nuclear Power Plant, allowing storage of a larger pellet diameter in Amendment No. 1, Revision 1 for the HI-STORM FW storage system, will not significantly impact the quality of the human environment, and that the proposed action is the preferred alternative. The environmental impacts are bounded by the previous EA for the rulemaking to add the Certificate of Compliance No. 1032, Amendment No. 1, Revision 1 cask system to 10 CFR 72.214.

The NRC provided the Maryland Department of the Environment a draft copy of this EA for review in an email dated March 16, 2020 (ADAMS Accession No. ML20077J550).

The NRC staff has determined that this exemption would have no impact on historic and cultural resources or ecological resources and therefore no consultations are necessary under Section 7 of the Endangered Species Act or Section 106 of the National Historic Preservation Act.

Therefore, the NRC finds that there are no significant environmental impacts from the proposed action, and that preparation of an environmental impact statement is not warranted. Accordingly, the NRC has determined that a FONSI is appropriate.

Dated: May 27, 2020.
For the Nuclear Regulatory Commission.
John B. McKirgan,
Chief, Storage and Transportation Licensing Branch, Division of Fuel Management, Office of Nuclear Material Safety and Safeguards.

[FR Doc. 2020-11693 Filed 5-29-20; 8:45 am]

BILLING CODE 7590-01-P